DEPARTMENT OF STATE

[Delegation of Authority 301]

Delegation by the Secretary of State to Henrietta Fore Authorities Normally Vested in the Director of Foreign Assistance

By virtue of the authority vested in me as Secretary of State by the laws of the United States, including the Foreign Assistance Act of 1961, as amended (22 U.S.C. 2151 et seq.), Executive Order 12163 of September 29, 1979, as amended (44 FR 56673), the Migration and Refugee Assistance Act of 1962 (22 U.S.C. 2601) the United Nations Participation Act of 1945, as amended (22 U.S.C. 287 et seq.) Executive Order 10206 of January 19, 1951, the President's Memorandum Delegation of Authority dated February 16, 1995, the Arms Export Act as amended (22 U.S.C. 2751 et seq.), Executive Order 11958 of January 18, 1977, and Section 1 of the State Departments Basic Authorities Act. As amended (22 U.S.C. 2651a), I herby delegate to Henrietta H. Fore, to the extent authorized by law, as functions that have been or may be delegated to the Director of Foreign Assistance.

Any authority of function covered by this delegation of authority may also be exercised by the Secretary or the Deputy Secretary.

Any act, executive order, regulation, or procedure subject to or affected by, this delegation of authority shall be deemed to be such act, executive order, regulation, or procedure as amended from time to time.

This delegation of authority shall expire upon the designation of an individual to serve as the Director of Foreign Assistance.

This delegation of authority shall be published in the Federal Register.

Dated: May 10, 2007.
Condoleezza Rice,
Secretary of State, Department of State.

[FR Doc. E7-9725 Filed 5-18-07; 8:45 am]

BILLING CODE 4710-10-P